DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

State Prevention Needs Assessments: Alcohol and Other Drugs—(OMB No. 0930-0185, Extension)—SAMHSA's Center for Substance Abuse Prevention (CSAP) has awarded contracts to eight States in Cohorts III and IV of the State Prevention Needs Assessment Program to collect data to assess the nature and extent of substance abuse prevention services needs. The family of prevention needs assessment studies applies a core set of measures, instruments, and methodologies developed and standardized under prior State needs assessment state contracts. These needs assessment studies will permit cross-State comparison of risk and protection variables to assist State services planning and allocation of State Block Grant funds.

CSAP is seeking a one year extension of OMB approval for the Virginia student survey to allow the second administration of the student survey and for completion of the Hawaii Community Resource Assessment survey. The annual response burden for this extension is as follows:

Respondent | Number of respondents | Average number of responses/respondent | Average burden/response (hours) | Total burden hours
Currently approved:
Student Survey | 27,120 | 1 | .75 | 20,340
Young Adult Surveys | 5,870 | 1 | .50 | 2,935
Community Resource Assessment Studies | 851 | 1 | 10 | 851
Special Population Studies | 1,800 | 1 | .50 | 900
Current Total | 35,641 |  |  | 25,026
Virginia Student Survey Continuation | 3,400 | 1 | .75 | 2,550
Hawaii Community Resource Assessment | 190 | 1 | 1.00 | 190
New Total | 3,590 |  |  | 2,740

Written comments and recommendations concerning the proposed information collection should be sent within 30 days of this notice to: Stuart Shapiro, Human Resources and Housing Branch, Office of Management and Budget, New Executive Office Building, Room 10235, Washington, D.C. 20503.

Dated: January 10, 2001.
Richard Kopanda,
Executive Officer, SAMHSA.

[FR Doc. 01-1299 Filed 1-16-01; 8:45 am]

BILLING CODE 4162-20-P